DEPARTMENT OF COMMERCE

National Oceanic and Atmospheric Administration

RIN 0648-XD784

Fisheries of the Northeastern United States; Atlantic Herring Fishery; Supplemental Notice of Intent To Prepare an Environmental Impact Statement; Scoping Process; Request for Comments

AGENCY: National Marine Fisheries Service (NMFS), National Oceanic and Atmospheric Administration (NOAA), Commerce.

ACTION: Supplemental notice of intent (NOI) to prepare an environmental impact statement (EIS); request for comments.

SUMMARY: The New England Fishery Management Council is in the process of preparing an environmental impact statement for Amendment 8 to the Atlantic Herring Fishery Management Plan. Amendment 8 would specify a long-term acceptable biological catch control rule for the herring fishery and consider alternatives for this control rule that explicitly account for herring's role in the ecosystem. The Council recently decided to expand the scope of Amendment 8 to include consideration of localized depletion in inshore waters. During this comment period, the Council is only seeking comments on the expanded scope of Amendment 8.

DATES: Written scoping comments must be received on or before 5 p.m., local time, September 30, 2015.

ADDRESSES: Written scoping comments may be sent by any of the following methods:

• Email to the following address: comments@nefmc.org;

• Mail to Thomas A. Nies, Executive Director, New England Fishery Management Council, 50 Water Street, Mill 2, Newburyport, MA 01950; or

• Fax to (978) 465-3116.

• Please indicate “Herring Amendment 8 Re-Scoping Comment” on your correspondence.

Requests for copies of the Amendment 8 scoping document and other information should be directed to Thomas A. Nies, Executive Director, New England Fishery Management Council, 50 Water Street, Mill 2, Newburyport, MA 01950, telephone (978) 465-0492. The scoping document is accessible electronically via the Internet at http://www.nefmc.org.

FOR FURTHER INFORMATION CONTACT: Thomas A. Nies, Executive Director, New England Fishery Management Council, (978) 465-0492.

SUPPLEMENTARY INFORMATION:

Background

The purpose of this notification is to alert the interested public of the Council's intent to expand the scope of Amendment 8 to consider localized depletion in inshore waters. In general, localized depletion is when harvesting takes more fish than can be replaced either locally or through fish migrating into the catch area within a given time period. The Council will consider input from the interested public as to how to define, measure, evaluate impacts, and minimize inshore, localized depletion in the herring fishery as part of the scoping process and during the development of Amendment 8.

Initially, the Council proposed Amendment 8 to further consider long-term harvest strategies for herring, including an allowable biological catch (ABC) control rule that addresses the biological needs of the herring resource and explicitly accounts for herring's role in the ecosystem. A detailed description of the background and need for Amendment 8 can be found in the original NOI dated February 26, 2015 (80 FR 10458).

At its June 2015 meeting, the Council reviewed scoping comments on Amendment 8 and considered goals and objectives for the amendment. The Council recommended the following goals for Amendment 8: (1) Account for the role of herring within the ecosystem, including its role as forage; (2) stabilize the fishery at a level designed to achieve optimum yield; and (3) address localized depletion in inshore waters. The Council also recommended that an objective for Amendment 8 be to develop and implement an ABC control rule that manages herring within an ecosystem context and addresses the goals of Amendment 8.

Public Comment

Scoping consists of identifying the range of actions, alternatives, and impacts to be considered. During this comment period, the Council is only seeking comments on Amendment 8's consideration of localized depletion in inshore waters. All persons affected by or otherwise interested in herring management are encouraged to submit comments on the expanded scope of Amendment 8 by submitting written comments (see ADDRESSES) or by attending the supplemental scoping meeting for this amendment. The supplemental scoping meeting will be held during the afternoon of the Council's Herring Committee meeting on September 15, 2015, at the Hilton Garden Inn, 100 Boardman Street, Boston, MA 02128, (617) 567-6789.

After the scoping process is completed, the Council will continue development of Amendment 8 and preparation of an EIS to analyze the impacts of the range of alternatives under consideration. Impacts may be direct, individual, or cumulative. The public will also have the opportunity to comment during public meetings and public comment periods throughout the development of Amendment 8, consistent with the National Environmental Policy Act, the Magnuson-Stevens Fishery Conservation and Management Act, and the Administrative Procedure Act.

Special Accommodations

The meetings are accessible to people with physical disabilities. Requests for sign language interpretation or other auxiliary aids should be directed to Thomas A. Nies (see ADDRESSES) at least five days prior to the meeting date.

Authority: 16 U.S.C. 1801 et seq.

Dated: August 18, 2015.
Alan D. Risenhoover,
Director, Office of Sustainable Fisheries, National Marine Fisheries Service.

[FR Doc. 2015-20798 Filed 8-20-15; 8:45 am]

BILLING CODE 3510-22-P